DEPARTMENT OF JUSTICE

Meeting of the NDCAC Executive Advisory Board

AGENCY: Justice Department.

ACTION: Meeting notice.

SUMMARY: The purpose of this notice is to announce the meeting of the Department of Justice's National Domestic Communications Assistance Center's (NDCAC) Executive Advisory Board (EAB). The meeting is being called to address the items identified in the Agenda detailed below. The NDCAC EAB is a federal advisory committee established pursuant to the Federal Advisory Committee Act (FACA).

DATES: The NDCAC EAB meeting is open to the public, subject to the registration requirements detailed below. The EAB will meet in open session from 10:00 a.m. until 1:00 p.m. on May 1, 2019.

ADDRESSES: The meeting will take place at 5000 Seminary Rd., Alexandria, VA 22311. Entry into the meeting room will begin at 9:00 a.m.

FOR FURTHER INFORMATION CONTACT: Inquiries may be addressed to Ms. Alice Bardney-Boose, Designated Federal Officer, National Domestic Communications Assistance Center, Department of Justice, by email at NDCAC@fbi.gov or by phone at (540) 361-4600.

SUPPLEMENTARY INFORMATION: Agenda: The meeting will be called to order at 10:00 a.m. by EAB Chairman Preston Grubbs. All EAB members will be introduced and EAB Chairman Grubbs will provide remarks. The EAB will receive an update and hold a discussion on the National Domestic Communications Assistance Center and its making of information more readily and simply available to law enforcement; a presentation on emerging wireless communications services and technologies; and status reports from its Administrative and Technology Subcommittees. Note: Agenda items are subject to change.

The purpose of the EAB is to provide advice and recommendations to the Attorney General or designee, and to the Director of the NDCAC that promote public safety and national security by advancing the NDCAC's core functions: Law enforcement coordination with respect to technical capabilities and solutions, technology sharing, industry relations, and implementation of the Communications Assistance for Law Enforcement Act (CALEA). The EAB consists of 15 voting members from Federal, State, local and tribal law enforcement agencies. Additionally, there are two non-voting members as follows: A federally-employed attorney assigned full time to the NDCAC to serve as a legal advisor to the EAB, and the DOJ Chief Privacy Officer or designee to ensure that privacy and civil rights and civil liberties issues are fully considered in the EAB's recommendations. The EAB is composed of eight State, local, and/or tribal representatives and seven federal representatives.

Written Comments: Any member of the public may submit written comments to the EAB. Written comments must be provided to Ms. Alice Bardney-Boose, DFO, at least seven (7) days in advance of the meeting so that the comments may be made available to EAB members for their consideration prior to the meeting. Written comments must be submitted to NDCAC@fbi.gov on or before April 24, 2019. In accordance with the FACA, all comments shall be made available for public inspection. Commenters are not required to submit personally identifiable information (such as name, address, etc.). Nevertheless, if commenters submit personally identifiable information as part of the comments, but do not want it made available for public inspection, the phrase “Personally Identifiable Information” must be included in the first paragraph of the comment. Commenters must place all personally identifiable information not to be made available for public inspection in the first paragraph and identify what information is to be redacted. Privacy Act Statement: Comments are being collected pursuant to the FACA. Any personally identifiable information included voluntarily within comments, without a request for redaction, will be used for the limited purpose of making all documents available to the public pursuant to FACA requirements.

Registration: Individuals and entities who wish to attend the public meeting are required to pre-register for the meeting on-line by clicking the registration link found at: http://ndcac-eab.eventbee.com. Registrations will be accepted on a space available basis. Attendees must bring registration confirmation (i.e., email confirmation) to be admitted to the meeting. Privacy Act Statement: The information requested on the registration form and required at the meeting is being collected and used pursuant to the FACA for the limited purpose of ensuring accurate records of all persons present at the meeting, which records may be made publicly available. Providing information for registration purposes is voluntary; however, failure to provide the required information for registration purposes will prevent you from attending the meeting.

Online registration for the meeting must be completed on or before 5:00 p.m. (EST) April 17, 2019. Anyone requiring special accommodations should notify Ms. Bardney-Boose at least seven (7) days in advance of the meeting or indicate your requirements on the online registration form.

Alice Bardney-Boose,
Designated Federal Officer, National Domestic Communication Assistance Center, Executive Advisory Board.

[FR Doc. 2019-07335 Filed 4-11-19; 8:45 am]

BILLING CODE 4410-02-P